Title 3—

The President

Proclamation 9235 of February 27, 2015

American Red Cross Month, 2015

By the President of the United States of America

A Proclamation

For more than 130 years, the devoted women and men of the American Red Cross have responded to challenges at home and abroad with compassion and generosity. In times of conflict and great tragedy, they deliver humanitarian relief, save lives, and offer hope for a brighter tomorrow. Their service has meant so much to so many, and it reflects a fundamental American truth: we look out for one another and we do not leave anyone behind. This month, we renew our sense of common purpose and honor all those whose sacrifices have made our society more prepared, resilient, and united.

As a nurse and educator, Clara Barton dedicated her life to caring for others and alleviating suffering. After years of tending to soldiers and families in their hour of need, she established the American Red Cross, creating a force for peace and recovery in the wake of the Civil War and opening paths for millions across our Nation to serve their brothers and sisters. In the generations that followed, the American Red Cross and other service and relief organizations have combated pandemics, supported our Armed Forces, and provided disaster relief and mitigation worldwide.

In big cities and rural towns, American Red Cross volunteers support their communities, helping people donate blood, teaching first aid, and increasing local preparedness. Last year, our Nation once again bore witness to their grit and resolve as thousands mobilized in response to devastating mudslides, tornadoes, wildfires, and other emergencies. As selfless individuals step forward—as neighbors assist neighbors, schools transform into shelters, and donations become hot meals and dry clothes—they carry forward Barton's legacy and safeguard the promise that in moments of darkness, there is hope. They remind us that when we stand together, America emerges stronger.

Our Nation has always been shaped by ordinary Americans who dedicate their lives to achieving the extraordinary. During American Red Cross Month, let us ask what we can do for those around us and resolve to make service to others a part of our everyday lives.

NOW, THEREFORE, I, BARACK OBAMA, President of the United States of America and Honorary Chairman of the American Red Cross, by virtue of the authority vested in me by the Constitution and the laws of the United States, do hereby proclaim March 2015 as American Red Cross Month. I encourage all Americans to observe this month with appropriate programs, ceremonies, and activities, and by supporting the work of service and relief organizations.

IN WITNESS WHEREOF, I have hereunto set my hand this twenty-seventh day of February, in the year of our Lord two thousand fifteen, and of the Independence of the United States of America the two hundred and thirty-ninth.

[FR Doc. 2015-04513

Filed 3-3-15; 11:15 am]

Billing code 3295-F5